Executive Order 14029 of May 14, 2021

Revocation of Certain Presidential Actions and Technical Amendment

By the authority vested in me as President by the Constitution and the laws of the United States of America, including sections 3301 and 3302 of title 5, United States Code, it is hereby ordered as follows:

Section 1. Revocation of Presidential Actions. The following Presidential actions are revoked: Executive Order 13925 of May 28, 2020 (Preventing Online Censorship), Executive Order 13933 of June 26, 2020 (Protecting American Monuments, Memorials, and Statues and Combating Recent Criminal Violence), Executive Order 13934 of July 3, 2020 (Building and Rebuilding Monuments to American Heroes), Executive Order 13964 of December 10, 2020 (Rebranding United States Foreign Assistance To Advance American Influence), Executive Order 13978 of January 18, 2021 (Building the National Garden of American Heroes), and Executive Order 13980 of January 18, 2021 (Protecting Americans From Overcriminalization Through Regulatory Reform).

Sec. 2. Implementation. The Director of the Office of Management and Budget and the heads of executive departments and agencies shall promptly consider taking steps to rescind any orders, rules, regulations, guidelines, or policies, or portions thereof, implementing or enforcing the Presidential actions identified in section 1 of this order, as appropriate and consistent with applicable law, including the Administrative Procedure Act, 5 U.S.C. 551 et seq. In addition, any personnel positions, committees, task forces, or other entities established pursuant to the Presidential actions identified in section 1 of this order shall be abolished, as appropriate and consistent with applicable law.

Sec. 3. Technical Amendment. To enhance the efficiency of the civil service and to promote good administration and systematic application of merit system principles, Executive Order 14003 of January 22, 2021 (Protecting the Federal Workforce), revoked Executive Order 13957 of October 21, 2020 (Creating Schedule F in the Excepted Service), thereby eliminating Schedule F in the excepted service. In order to update the civil service rules to reflect the action taken in Executive Order 14003, Civil Service Rule VI is amended as follows:

(a) 5 CFR 6.2 is amended to read:

OPM shall list positions that it excepts from the competitive service in Schedules A, B, C, and D, and it shall list the position of administrative law judge in Schedule E, which schedules shall constitute parts of this rule, as follows:

Schedule A. Positions other than those of a confidential or policy-determining character for which it is not practicable to examine shall be listed in Schedule A.

Schedule B. Positions other than those of a confidential or policy-determining character for which it is not practicable to hold a competitive examination shall be listed in Schedule B. Appointments to these positions shall be subject to such noncompetitive examination as may be prescribed by OPM.

Schedule C. Positions of a confidential or policy-determining character shall be listed in Schedule C.

Schedule D. Positions other than those of a confidential or policy-determining character for which the competitive service requirements make impracticable the adequate recruitment of sufficient numbers of students attending qualifying educational institutions or individuals who have recently completed qualifying educational programs shall be listed in Schedule D. These positions are temporarily placed in the excepted service to enable more effective recruitment from all segments of society by using means of recruiting and assessing candidates that diverge from the rules generally applicable to the competitive service.

Schedule E. Positions of administrative law judge appointed under 5 U.S.C. 3105 shall be listed in Schedule E. Conditions of good administration warrant placing the position of administrative law judge in the excepted service and exempting appointment to this position from the requirements of 5 CFR, part 302, including examination and rating requirements, though each agency shall follow the principle of veteran preference as far as administratively feasible.

(b) 5 CFR 6.4 is amended to read:

“Except as required by statute, the Civil Service Rules and Regulations shall not apply to removals from positions listed in Schedules A, C, D, or E, or from positions excepted from the competitive service by statute. The Civil Service Rules and Regulations shall apply to removals from positions listed in Schedule B of persons who have competitive status.”

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

May 14, 2021.

[FR Doc. 2021-10691

Filed 5-18-21; 8:45 am]

Billing code 3295-F1-P